DEPARTMENT OF ENERGY

Federal Energy Regulatory Commission

[Docket No. RP00-506-003]

Northwest Pipeline Corporation; Notice of Compliance Filing

March 16, 2001.

Take notice that on March 13, 2001, Northwest Pipeline Corporation (Northwest) tendered for filing as part of its FERC Gas Tariff, Third Revised Volume No. 1, the following tariff sheets to be effective February 25, 2001:

Substitute Eighth Revised Sheet No. 24

Substitute Fifth Revised Sheet No. 259

Substitute First Revised Sheet No. 278-C

Northwest states that the purpose of this filing is to comply with the Commission's Order on Compliance Filing dated February 23, 2001 in Docket No,. RP00-506-002 directing Northwest to file revised tariff sheets (1) to remove the proposed requirement for pro rata reductions of maximum daily quantities (MDQs) and maximum daily delivery obligations (MDDOs) at individual receipt and delivery points in the event of a partial capacity turnback, and (2) to remove the terms “volumetric” and “geographic” from provisions pertaining to capacity release and the right of first refusal.

Northwest states that a copy of this filing has been served upon each person designated on the official service list compiled by the Secretary in this proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-7116 Filed 3-21-01; 8:45 am]

BILLING CODE 6717-01-M